SECURITIES AND EXCHANGE COMMISSION

[Release No. 34-80004A; File No. SR-FINRA-2016-047]

Self-Regulatory Organizations; Financial Industry Regulatory Authority, Inc.; Order Granting Approval of a Proposed Rule Change To Amend FINRA Rules To Conform to the Commission's Proposed Amendment to Commission Rule 15c6-1(a) and the Industry-Led Initiative To Shorten the Standard Settlement Cycle for Most Broker-Dealer Transactions From T+3 to T+2; Correction

March 6, 2017.

AGENCY: Securities and Exchange Commission.

ACTION: Order; correction.

SUMMARY: The Securities and Exchange Commission published a document in the Federal Register on February 15, 2017, concerning an Order Granting Approval of a Proposed Rule Change to Amend FINRA Rules to conform to the Commission's Proposed Amendment to Commission Rule 15c6-1(a) and the Industry-led Initiative to Shorten the Standard Settlement Cycle for Most Broker-Dealer Transactions from T+3 to T+2. The document made an erroneous reference to “an Equity Regulatory Alert” instead of to “a Regulatory Notice.”

FOR FURTHER INFORMATION CONTACT: Steve Kuan, Division of Trading and Markets, Securities and Exchange Commission, 100 F Street NE., Washington, DC 20549, (202) 551-5624.

Correction

In the Federal Register of February 15, 2017 in FR Doc. 2017-02998, on page 10836, in the second column in the 44-45 lines and on page 10837, in the first column in the 5-6 lines, correct the references to “an Equity Regulatory Alert” instead to “a Regulatory Notice.”

Dated: March 6, 2017.
Eduardo A. Aleman,
Assistant Secretary.

[FR Doc. 2017-04869 Filed 3-10-17; 8:45 am]

BILLING CODE 8011-01-P